ELECTION ASSISTANCE COMMISSION

Sunshine Act Notice

AGENCY: U.S. Election Assistance Commission.

ACTION: Notice of public meeting.

DATE AND TIME: Wednesday, February 4, 2009, 10 a.m.-12 noon.

PLACE: U.S. Election Assistance Commission, 1225 New York Ave., NW., Suite 150, Washington, DC 20005, (Metro Stop: Metro Center).

AGENDA: The Commission will receive an update on the voting system certification program. Commissioners will install new officers for 2009. The Commission will consider other administrative matters.

This meeting will be open to the public.

FOR MORE INFORMATION CONTACT: Bryan Whitener, Telephone: (202) 566-3100.

Rosemary Rodriguez,
Commissioner, U.S. Election Assistance Commission.

[FR Doc. E9-1971 Filed 1-26-09; 4:15 pm]

BILLING CODE 6820-KF-P